DEPARTMENT OF DEFENSE

Office of the Secretary

[Docket No. DOD-2007-OS-0061]

Proposed Collection: Comment Request

AGENCY: Department of Defense, Office of the Under Secretary of Defense for Acquisition, Technology, and Logistics/Defense Technical Information Center (DTIC).

ACTION: Notice.

In compliance with Section 3506(C)(2)(A) of the Paperwork Reduction Act of 1995, the Office of the Under Secretary of Defense for Acquisition, Technology, and Logistics/Defense Technical Information Center (DTIC) announces the proposed extension of the currently approved collection and seeks public comment on the provisions thereof. Comments are invited on:

(a) Whether the proposed collection of information is necessary for the proper performance of the functions of the agency, including whether the information shall have practical utility.

(b) The accuracy of the agency's estimate of the burden of the proposed information collection.

(c) Ways to enhance the quality, utility, and clarity of the information to be collected.

(d) Ways to minimize the burden of the information collection on respondents, including the use of automated collection techniques or other forms of information technology.

DATES: Consideration will be given to all comments received by August 7, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

• Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request further information about this proposed information collection, or to obtain a copy of the proposal and the associated collection instrument, please write or send an e-mail to the DTIC-BC Registration Team, Defense Technical Information Center, 8725 John J. Kingman Road, Suite 0944, Fort Belvoir, VA 22060-6218, or e-mail Ms. Kerry Christensen: kchriste@dtic.mil. Ms. Christensen may be telephoned at: (703) 767-8247.

Title, Form, and OMB Number: Registration for Scientific and Technical Information Services; DD Form 1540; OMB Control Number 0704-0264.

Needs and Uses: The data that the Defense Technical Information Center handles is controlled, because of either distribution limitations or security classification. For this reason, all potential users are required to register for service. DoD Instruction 3200.14, Principles and Operational Parameters of the DoD Scientific and Technical Information Program, mandates the registration procedure. Federal Government agencies and their contractors are required to complete the DD Form 1540, Registration for Scientific and Technical Information Services. The contractor community completes a separate DD Form 1540 for each contract or grant, and registration is valid until the contract expires.

Affected Public: Business or other-for-profit, Federal Government, and State, local, or tribal government.

Annual Burden Hours: 1,667.

Number of Annual Respondents: 10,000.

Annual Responses to Respondent: 10,000.

Average Burden per Response: 10 minutes.

Frequency: On occasion.

SUPPLEMENTARY INFORMATION:

Summary of Information Collection

The DD Form 1540 serves as a registration tool for Federal Government agencies and their contractors to access DTIC services. Potential users registering for services are required to obtain certification from a designated approving official. Collected information is verified by DTIC's Marketing and Registration Division.

Dated: June 1, 2007.
Patricia L. Toppings,
Alternate OSD Federal Register Liaison Officer, Department of Defense.

[FR Doc. 07-2845 Filed 6-7-07; 8:45 am]

BILLING CODE 5001-06-M